DEPARTMENT OF THE INTERIOR

National Park Service

[NPS-WASO-NAGPRA-NPS0027844; PPWOCRADN0-PCU00RP14.R50000]

Notice of Inventory Completion: U.S. Department of the Interior, National Park Service, Petrified Forest National Park, Petrified Forest, AZ; Correction

AGENCY: National Park Service, Interior.

ACTION: Notice; correction.

SUMMARY: The U.S. Department of the Interior, National Park Service, Petrified Forest National Park has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Petrified Forest National Park. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Petrified Forest National Park at the address in this notice by July 5, 2019.

ADDRESSES: Brad Traver, Superintendent, Petrified Forest National Park, Box 2217, Petrified Forest, AZ 86028, telephone (928) 524-6228 Ext. 225, email brad_traver@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Petrified Forest National Park, Petrified Forest, AZ. The human remains and associated funerary objects were removed from Petrified Forest National Park, Apache and Navajo Counties, AZ.

This notice is published as part of the National Park Service's administrative responsibilities under NAGPRA, 25 U.S.C. 3003(d)(3). The determinations in this notice are the sole responsibility of the Superintendent, Petrified Forest National Park.

This notice corrects the minimum number of individuals and number of associated funerary objects reported in two previously published notices: Notice of Inventory Completion (80 FR 23573-23574, April 28, 2015); and corrected Notice of Inventory Completion (80 FR 32602-32603, June 9, 2015). This notice replaces both the original Notice of Inventory Completion of April 28, 2015 and the corrected Notice of Inventory Completion of June 9, 2015. A re-assessment of human remains previously determined to be culturally unidentifiable resulted in determinations of cultural affiliation. The additional associated funerary objects were discovered during preparation for repatriation. Transfer of control of the items in this correction notice has not occurred.

Consultation

A detailed assessment of the human remains was made by Petrified Forest National Park professional staff in consultation with representatives of the Fort McDowell Yavapai Nation, Arizona; Hopi Tribe of Arizona; Hualapai Indian Tribe of the Hualapai Indian Reservation, Arizona; Kewa Pueblo, New Mexico (previously listed as the Pueblo of Santo Domingo); Navajo Nation, Arizona, New Mexico & Utah; Pueblo of Acoma, New Mexico; Pueblo of Santa Ana, New Mexico; and Zuni Tribe of the Zuni Reservation, New Mexico (hereafter referred to as “The Consulted Tribes”).

The following tribes were invited to consult, but did not participate: Colorado River Indian Tribes of the Colorado River Indian Reservation, Arizona and California; Fort Mojave Indian Tribe of Arizona, California & Nevada; Gila River Indian Community of the Gila River Indian Reservation, Arizona; Havasupai Tribe of the Havasupai Reservation, Arizona; Kaibab Band of Paiute Indians of the Kaibab Indian Reservation, Arizona; Las Vegas Tribe of Paiute Indians of the Las Vegas Indian Colony, Nevada; Moapa Band of Paiute Indians of the Moapa River Indian Reservation, Nevada; Ohkay Owingeh, New Mexico (previously listed as the Pueblo of San Juan); Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); Pascua Yaqui Tribe of Arizona; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Clara, New Mexico; Pueblo of Taos, New Mexico; Pueblo of Tesuque, New Mexico; Pueblo of Zia, New Mexico; San Carlos Apache Tribe of the San Carlos Reservation, Arizona; San Juan Southern Paiute Tribe of Arizona; Tohono O'odham Nation of Arizona; Tonto Apache Tribe of Arizona; and Yavapai-Apache Nation of the Camp Verde Indian Reservation, Arizona (hereafter referred to as “The Invited Tribes”).

History and Description of the Remains

In 1933-1934 human remains representing, at minimum, one individual were removed from AZ Q:1:23 in Navajo County, AZ, during legally authorized activities to restore the site architecture and interpret the site for visitors. The human remains are in the physical custody of the Museum of Northern Arizona, Flagstaff, AZ. No known individuals were identified. No associated funerary objects are present.

In 1953, human remains representing, at minimum, six individuals were removed from AZ Q:1:3 in Apache County, AZ, by Fred Wendorf as part of his doctoral research at Harvard University. The human remains and associated funerary objects are in the physical custody of the Museum of Northern Arizona (MNA) in Flagstaff, AZ. No known individuals were identified. The 2,201 associated funerary objects are 13 pottery bowls, one mineral (galena), six pottery jars (some fragmentary), 2,083 shell beads, one stone pendant, two stone scrapers, one shell pendant, 25 basket fragments, one blanket, and 68 pottery sherds.

In 1967, human remains representing, at minimum, three individuals were removed from AZ Q:1:22 in Apache County, AZ, during legally authorized excavations conducted by Calvin Jennings of the Museum of Northern Arizona. The human remains are in the physical custody of the Museum of Northern Arizona, Flagstaff, AZ. No known individuals were identified. No associated funerary objects are present.

In 1968, human remains representing, at minimum, one individual were removed from AZ Q:1:3 in Apache County, AZ, by the Chief Naturalist at Petrified Forest National Park during regular site monitoring. The human remains are in the physical custody of the Museum of Northern Arizona, Flagstaff, AZ. No known individuals were identified. No associated funerary objects are present.

In 1985, human remains representing, at minimum, one individual were removed from AZ Q:1:58 in Apache County, AZ, during legally authorized excavations. No known individuals were identified. The two associated funerary objects are one pottery bowl and one charcoal sample.

In 1988, human remains representing, at minimum, two individuals were removed from AZ Q:1:226 in Navajo County, AZ, during legally authorized archeological survey and site recordation. No known individuals were identified. The 11 associated funerary objects are two pottery bowls, three pottery jars, and six shell beads.

Archeological site context and types of funerary objects suggest that all five sites were occupied by ancestral Puebloan peoples. Ethnographic and archeological evidence, including burial orientation, body position, and the type and placement of the associated funerary objects, indicates that the mortuary practices of these ancestral Puebloan peoples correspond closely with those of the Hopi Tribe of Arizona and the Zuni Tribe of the Zuni Reservation, New Mexico.

Determinations Made by Petrified Forest National Park

Officials of Petrified Forest National Park have determined that:

• Pursuant to 25 U.S.C. 3001(9), the human remains described in this notice represent the physical remains of 14 individuals of Native American ancestry.

• Pursuant to 25 U.S.C. 3001(3)(A), the 2,214 objects described in this notice are reasonably believed to have been placed with or near individual human remains at the time of death or later as part of the death rite or ceremony.

• Pursuant to 25 U.S.C. 3001(2), there is a relationship of shared group identity that can be reasonably traced between the Native American human remains and associated funerary objects and the Hopi Tribe of Arizona and the Zuni Tribe of the Zuni Reservation, New Mexico.

Additional Requestors and Disposition

Lineal descendants or representatives of any Indian Tribe or Native Hawaiian organization not identified in this notice that wish to request transfer of control of these human remains and associated funerary objects should submit a written request with information in support of the request to Brad Traver, Superintendent, Petrified Forest National Park, Box 2217, Petrified Forest, AZ 86028, telephone (928) 524-6228 Ext. 225, email brad_traver@nps.gov, by July 5, 2019. After that date, if no additional requestors have come forward, transfer of control of the human remains and associated funerary objects to the Hopi Tribe of Arizona and the Zuni Tribe of the Zuni Reservation, New Mexico may proceed.

Petrified Forest National Park is responsible for notifying The Consulted Tribes and The Invited Tribes that this notice has been published.

Dated: May 2, 2019.
Melanie O'Brien,
Manager, National NAGPRA Program.

[FR Doc. 2019-11537 Filed 6-3-19; 8:45 am]

BILLING CODE 4312-52-P